NATIONAL SECURITY COMMISSION ON ARTIFICIAL INTELLIGENCE

[Docket No.: 2-2021-01]

National Security Commission on Artificial Intelligence; Notice of Federal Advisory Committee Meeting

AGENCY: National Security Commission on Artificial Intelligence.

ACTION: Notice of Federal Advisory Committee virtual public meeting.

SUMMARY: The National Security Commission on Artificial Intelligence (the “Commission”) is publishing this notice to announce that the following Federal Advisory Committee virtual public meeting will take place.

DATES: Monday, March 1, 2021, 12:00 p.m. to 1:00 p.m. Eastern Standard Time (EST).

ADDRESSES: Mailing address: Designated Federal Officer, National Security Commission on Artificial Intelligence, 2530 Crystal Drive, Box 45, Arlington, VA 22202. website: https://www.nscai.gov. The most up-to-date information about the meeting and the Commission can be found on the website.

FOR FURTHER INFORMATION CONTACT: Ms. Angela Ponmakha, 571-329-5519 (Voice), nscai-dfo@nscai.gov.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The John S. McCain National Defense Authorization Act for Fiscal Year 2019 (FY19 NDAA), Sec. 1051, Public Law 115-232, 132 Stat. 1636, 1962-65 (2018), created the Commission to “consider the methods and means necessary to advance the development of artificial intelligence, machine learning, and associated technologies by the United States to comprehensively address the national security and defense needs of the United States.” After a series of meetings in January and February 2021 in which the Commission deliberated on draft recommendations and reached consensus regarding their inclusion in the Commission's Final Report to Congress and the Executive Branch, the Commissioners will meet to formally approve and release the Final Report.

Agenda: The meeting will begin on March 1, 2021 at 12:00 p.m. EST with opening remarks by the Designated Federal Officer, Ms. Angela Ponmakha; the Executive Director, Mr. Yll Bajraktari; the Commission Chair, Dr. Eric Schmidt; and the Commission Vice Chair, Hon. Robert Work. After the opening remarks, other Commission members may provide final remarks. The Commission will consider and vote on the Commission's Final Report and associated materials for submission to Congress and the Administration. The meeting will adjourn at 1:00 p.m. EST.

Meeting Accessibility: Pursuant to Federal statutes and regulations (the FACA, the Sunshine Act, and 41 CFR 102-3.140 through 102-3.165) and the availability of space, the virtual meeting is open to the public March 1, 2021 from 12:00 p.m. to 1:00 p.m. EST. Members of the public wishing to receive a link to the live stream webcast for viewing and audio access to the virtual meeting should register on the Commission's website, https://www.nscai.gov. Registration will be available from February 22, 2021 through February 26, 2021. Members of the media should RSVP to the Commission's press office at press@nscai.gov.

Special Accommodations: Individuals requiring special accommodations to access the public meeting should contact the DFO, see the FOR FURTHER INFORMATION CONTACT section for contact information, no later than February 26, 2021, so that appropriate arrangements can be made.

Access to Records of the Meeting: Pursuant to FACA requirements, the meeting materials for the virtual meetings will be available for public inspection on the Commission's website at https://www.nscai.gov on March 1, 2021.

Written Statements: Written comments may be submitted to the DFO via email to: nscai-dfo@nscai.gov in either Adobe Acrobat or Microsoft Word format. The DFO will compile all written submissions and provide them to the Commissioners for consideration. Please note that all submitted comments will be treated as public documents and will be made available for public inspection, including, but not limited to, being posted on the Commission's website.

Dated: February 9, 2021.
Michael Gable,
Chief of Staff.

[FR Doc. 2021-02983 Filed 2-12-21; 8:45 am]

BILLING CODE 3610-Y8-P